FEDERAL COMMUNICATIONS COMMISSION

47 CFR Parts 2 and 90

[WT Docket No. 00-32; FCC 03-99]

The 4.9 GHz Band Transferred from Federal Government Use

AGENCY: Federal Communications Commission.

ACTION: Final rule.

SUMMARY: In this document the Federal Communications Commission (FCC) denies petitions for reconsideration of the FCC's decision to prohibit aeronautical mobile operations in the 4940-4990 MHz (4.9 GHz) band. While the FCC believes that it could fashion no general rule that would adequately protect radio astronomy operations without being so restrictive as to limit the utility of pursuing aeronautical mobile operations in the 4.9 GHz band, the FCC nonetheless recognizes the public safety community's interest in utilizing the 4.9 GHz band for aeronautical mobile operations. Thus, the FCC provides a mechanism whereby such operations could be allowed on a case-by-case basis provided that there is a sufficient technical showing made that the proposed operations would not interfere with in-band and adjacent band radio astronomy operations.

FOR FURTHER INFORMATION CONTACT: Tim Maguire, tmaguire@fcc.gov, or Genevieve Augustin, gaugusti@fcc.gov, Public Safety and Private Wireless Division, Wireless Telecommunications Bureau, (202) 418-0680, or TTY (202) 418-7233.

SUPPLEMENTARY INFORMATION: This is a summary of the FCC's Memorandum Opinion and Order, FCC 03-99, adopted on April 23, 2003, and released on May 2, 2003. The full text of this document is available for inspection and copying during normal business hours in the FCC Reference Center, 445 12th Street, SW., Washington, DC 20554. The complete text may be purchased from the FCC's copy contractor, Qualex International, 445 12th Street, SW., Room CY-B402, Washington, DC 20554. The full text may also be downloaded at: http://hraunfoss.fcc.gov/edocs_public/attachmatch/FCC-03-99A1.pdf. Alternative formats are available to persons with disabilities by contacting Brian Millin at (202) 418-7426 or TTY (202) 418-7365 or at bmillin@fcc.gov.

1. In the Second Report and Order (Second Report and Order), 67 FR 17308, April 9, 2002, in this proceeding, the FCC allocated the fifty megahertz of spectrum in the 4.9 GHz band for fixed and mobile services (except aeronautical mobile service) and designated the band for use in support of public safety. In this Memorandum Opinion and Order (MO&O), the FCC addresses petitions for reconsideration of the Second R&O.

2. In the MO&O, the FCC denies petitions for reconsideration of the FCC's decision to prohibit aeronautical mobile operations in the 4.9 GHz band. The FCC believes that there is insufficient information demonstrating that it could fashion a general rule that would adequately protect radio astronomy operations in all scenarios. The FCC is also concerned that any general rule would be so restrictive as to limit the utility of pursuing aeronautical mobile operations in the 4.9 GHz band. The FCC nonetheless recognizes the public safety community's interest in utilizing the 4.9 GHz band for aeronautical mobile operations and provides a mechanism whereby such operations could be allowed on a case-by-case basis provided that there is a sufficient technical showing made that the proposed operations would not interfere with in-band and adjacent band radio astronomy operations. This action strikes the appropriate balance between the FCC's goals of protecting radio astronomy operations and promoting effective public safety communications and innovation in wireless broadband services in support of public safety.

I. Ordering Clauses

3. The Chief, Wireless Telecommunications Bureau and the Chief, Office of Engineering and Technology, are granted delegated authority to adjudicate waiver requests to utilize the 4.9 GHz band for aeronautical mobile operations.

Federal Communications Commission
Marlene H. Dortch,
Secretary.

[FR Doc. 03-16376 Filed 6-27-03; 8:45 am]

BILLING CODE 6712-01-U